DEPARTMENT OF LABOR

Employment and Training Administration

[TA-W-70,221]

Wacker Chemical Corporation, Wacker Polymers Division, a Subsidiary of Wacker Chemie AG, Including On-Site Leased Workers From On-Board Services, Inc., Action Mechanical Contractors, Ambient Electrical Contracting, Inc. and Yoh Managed Staffing, South Brunswick, NJ; Amended Certification Regarding Eligibility To Apply for Worker Adjustment Assistance

In accordance with Section 223 of the Trade Act of 1974, as amended (“Act”), 19 U.S.C. 2273, the Department of Labor issued a Certification of Eligibility to Apply for Worker Adjustment Assistance on July 16, 2009, applicable to workers of Wacker Chemical Corporation, Wacker Polymers Division, a subsidiary of Wacker Chemie AG, including on-site leased workers from Wycoff Group, d/b/a Snelling Staffing and BSS, South Brunswick, New Jersey. The notice was published in the Federal Register on September 2, 2009 (74 FR 45476).

At the request of the State Agency, the Department reviewed the certification for workers of the subject firm. The workers are engaged in the production of wet emulsions used in the construction industry, such as adhesives, paints, caulks, grouts and paper products.

The company reports that on-site leased workers from On-Board Services, Inc., Action Mechanical Contractors, Ambient Electrical Contracting, Inc., and Yoh Managed Staffing were employed on-site at the South Brunswick, New Jersey location of Wacker Chemical Corporation, Wacker Polymers Division, a subsidiary of Wacker Chemie AG. The Department has determined that these workers were sufficiently under the control of the subject firm to be considered leased workers.

Based on these findings, the Department is amending this certification to include workers leased from On-Board Services, Inc., Action Mechanical Contractors, Ambient Electrical Contracting, Inc., and Yoh Managed Staffing working on-site at the South Brunswick, New Jersey location of the subject firm.

The amended notice applicable to TA-W-70,221 is hereby issued as follows:

All workers of Wacker Chemical Corporation, Wacker Polymers Division, a subsidiary of Wacker Chemie AG, including on-site leased workers from Wycoff Group, d/b/a/Snelling Staffing, BSS, On-Board Services, Inc., Action Mechanical Contractors, Ambient Electrical Contracting, Inc., and Yoh Managed Staffing, South Brunswick, New Jersey, who became totally or partially separated from employment on or after May 18, 2008, through July 16, 2011, and all workers in the group threatened with total or partial separation from employment on date of certification through two years from the date of certification, are eligible to apply for adjustment assistance under Chapter 2 of Title II of the Trade Act of 1974, as amended.

Signed at Washington, DC, this 18th day of September 2009.
Richard Church,
Certifying Officer, Division of Trade Adjustment Assistance.

[FR Doc. E9-23911 Filed 10-2-09; 8:45 am]

BILLING CODE 4510-FN-P